ENVIRONMENTAL PROTECTION AGENCY

[FRL-6561-1]

Rutledge Property/Rock Hill Chemical Company Site; Notice of Proposed Settlement

AGENCY: Environmental Protection Agency.

ACTION: Notice of proposed settlement.

SUMMARY: The United States Environmental Protection Agency is proposing to enter into a settlement with BASF (Inmont) Corporation; Burlington Industries, Inc.; Chase Packaging, Inc.; CTS Corporation; Engraph, Inc.; FMC Corporation, Lithium Division; CNA Holdings, Inc. successor to Hoechst Celanese Corporation; Homelite Division of Textron; Rexam Inc.; and W.R. Grace and Company for response costs pursuant to Section 122(h)(1) of the Comprehensive Environmental Response, Compensation, and Liability Act (CERCLA), 42 U.S.C. 9622(h)(1) concerning the Rutledge Property/Rock Hill Chemical Company Site located in Rock Hill, York County, South Carolina. EPA will consider public comments on the proposed settlement for thirty (30) days. EPA may withdraw from or modify the proposed settlement should such comments disclose facts or considerations which indicate the proposed settlement is inappropriate, improper or inadequate. Copies of the proposed settlement are available from: Ms. Paula V. Batchelor, U.S. EPA, Region 4, (WMD-CPSB), 61 Forsyth Street, S.W., Atlanta, Georgia 30303, (404) 562-8887.

Written comments may be submitted to Ms. Batchelor within 30 calendar days of the date of this publication.

Dated: February 29, 2000.
Franklin E. Hill,
Chief, CERCLA Program Services Branch, Waste Management Division.

[FR Doc. 00-6389 Filed 3-14-00; 8:45 am]

BILLING CODE 6560-50-P